DEPARTMENT OF THE INTERIOR

Fish and Wildlife Service

Endangered and Threatened Wildlife and Plants; Chiricahua Leopard Frog Recovery Plan

AGENCY: Fish and Wildlife Service, Interior.

ACTION: Notice of availability: final recovery plan for Chiricahua leopard frog.

SUMMARY: We, the U.S. Fish and Wildlife Service (Service), announce the availability of a final recovery plan for the Chiricahua leopard frog (Rana chiricahuensis). The species occurs in central and southeastern Arizona, west-central and southwestern New Mexico, and the sky islands and Sierra Madre Occidental of northeastern Sonora and northwestern Chihuahua, Mexico. The Chiricahua Leopard Frog Recovery Plan (Recovery Plan) presents information on the species and its habitat, including delisting criteria and recovery actions to conserve the species.

ADDRESSES: You may access this document from our Web site, http://fws.gov/arizonaes/. Copies of the Recovery Plan are also available on compact disk or in hard copy. To obtain a copy, contact Jim Rorabaugh by U.S. mail at Arizona Ecological Services Field Office, U.S. Fish and Wildlife Service, 2321 West Royal Palm Road, Suite 103, Phoenix, AZ 85021-4951.

FOR FURTHER INFORMATION CONTACT: Jim Rorabaugh (see ADDRESSES), (602) 242-0210 x238 (telephone) or jim_rorabaugh@fws.gov (e-mail).

SUPPLEMENTARY INFORMATION:

Background

The Endangered Species Act of 1973 (Act), as amended (16 U.S.C. 1531 et seq.), requires the development of recovery plans for listed species unless such a plan would not promote the conservation of a particular species. Section 4(f) of the Act, as amended in 1988, requires that public notice and an opportunity for public review and comment be provided during recovery plan development. On April 12, 2006, we published a notice of document availability in the Federal Register announcing the availability for public review of the draft Recovery Plan (71 FR 18767). We accepted public comments through June 12, 2006. We also conducted peer review at this time. We received six letters of comment during the comment period. Based on this input, we revised and finalized the Recovery Plan.

The Recovery Plan describes the status, current management, recovery objectives and criteria, and specific actions needed to recover and delist the threatened Chiricahua leopard frog. The Recovery Plan was developed by a recovery team, including a Technical Subgroup and three Stakeholders Subgroups, in coordination with the Service. The Technical Subgroup included experts on the species, conservation biology, and other relevant topics. The Stakeholders Subgroups included land owners and managers, agency representatives, ranchers, the mining industry, environmental organizations, herpetologists, and other interested parties.

The Chiricahua leopard frog is an inhabitant of a variety of valley and montane aquatic habitats, such as springs, pools, cattle tanks, lakes, reservoirs, streams, and rivers. The frog has disappeared from more than 80 percent of its historical localities due to threats including predation by non-native organisms, especially American bullfrogs, fishes, and crayfish; the fungal disease chytridiomycosis; drought; floods; degradation and loss of habitat as a result of water diversions, groundwater pumping, and livestock management that has or continues to degrade frog habitats; a long history of fire suppression, mining, development, and other human activities; disruption of metapopulation dynamics; increased chance of extirpation or extinction resulting from small numbers of populations and individuals existing in dynamic environments; and probably environmental contamination (such as runoff from mining operations and airborne contaminants from copper smelters).

Actions needed to recover the Chiricahua leopard frog include protection of existing populations and occupied habitats, creation or restoration of additional habitats and populations, control of non-native predators and minimizing spread of disease, monitoring of the recovery effort and frog populations, research that will facilitate better and more efficient recovery, and adaptive management. The Recovery Plan provides delisting criteria for the species that will indicate the species is no longer threatened with extinction throughout all or a significant portion of its range. When the following criteria have been met, the species may be considered for removal from the List of Threatened and Endangered Wildlife: (1) At least two metapopulations located in different drainages plus at least one isolated and robust population in each recovery unit exhibit long-term persistence and stability as demonstrated by a scientifically acceptable population monitoring program; (2) Aquatic breeding habitats necessary for persistence of metapopulations and isolated populations are protected and managed; (3) Additional habitat needed for population connectivity, recolonization, and dispersal is protected and managed; and (4) Threats and causes of decline have been reduced or eliminated, and commitments of long-term management are in place in each recovery unit such that the Chiricahua leopard frog is unlikely to need protection under the Act in the foreseeable future.

Authority

The authority for this action is Section 4(f) of the Endangered Species Act, 16 U.S.C. 1533(f).

Dated: March 14, 2007.
Benjamin N. Toggle,
Regional Director, Region 2, Albuquerque, New Mexico.

[FR Doc. E7-10674 Filed 6-1-07; 8:45 am]

BILLING CODE 4310-55-P